ENVIRONMENTAL PROTECTION AGENCY

[EPA-HQ-OPP-2015-0634; FRL-9934-46]

Cancellation of Pesticides for Non-Payment of Year 2015 Registration Maintenance Fees; Summary of Orders Issued

AGENCY: Environmental Protection Agency (EPA).

ACTION: Notice.

SUMMARY: Under the Federal Insecticide, Fungicide, and Rodenticide Act (FIFRA), the payment of an annual maintenance fee is required to keep pesticide registrations in effect. The fee due last January 15, 2015, has gone unpaid for the 236 registrations identified in this document. If the fee is not paid, the EPA Administrator may cancel these registrations by order and without a hearing; orders to cancel these registrations have been issued.

FOR FURTHER INFORMATION CONTACT: Mick Yanchulis, Information Technology and Resources Management Division (7502P), Office of Pesticide Programs, Environmental Protection Agency, 1200 Pennsylvania Ave. NW., Washington, DC 20460-0001; telephone number: (703) 347-0237; email address: yanchulis.michael@epa.gov.

Product-specific status inquiries may be made by calling toll-free, 1-800-444-7255.

SUPPLEMENTARY INFORMATION:

I. General Information

A. Does this action apply to me?

This action is directed to the public in general. Although this action may be of particular interest to persons who produce or use pesticides, the Agency has not attempted to describe all the specific entities that may be affected by this action.

B. How can I get copies of this document and other related information?

The docket for this action, identified by docket identification (ID) number EPA-HQ-OPP-2015-0634, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

Complete lists of registrations canceled for non-payment of the maintenance fee are also available for reference in the OPP Docket.

II. Background

Section 4(i)(5) of FIFRA (7 U.S.C. 136a-1(i)(5)) requires that all pesticide registrants pay an annual registration maintenance fee, due by January 15 of each year, to keep their registrations in effect. This requirement applies to all registrations granted under FIFRA section 3 (7 U.S.C. 136a) as well as those granted under FIFRA section 24(c) (7 U.S.C. 136v(c)) to meet special local needs. Registrations for which the fee is not paid are subject to cancellation by order and without a hearing.

Under FIFRA, the EPA Administrator may reduce or waive maintenance fees for minor agricultural use pesticides when it is determined that the fee would be likely to cause significant impact on the availability of the pesticide for the use.

In fiscal year 2015, maintenance fees were collected in one billing cycle. In late October of 2014, all holders of either FIFRA section 3 registrations or FIFRA section 24(c) registrations were sent lists of their active registrations, along with forms and instructions for responding. They were asked to identify which of their registrations they wished to maintain in effect, and to calculate and remit the appropriate maintenance fees. Most responses were received by the statutory deadline of January 15. A notice of intent to cancel was sent in April of 2015 to companies who did not respond and to companies who responded, but paid for less than all of their registrations. Since mailing the notices of intent to cancel, EPA has maintained a toll-free inquiry number through which the questions of affected registrants have been answered.

In fiscal year 2015, the Agency has waived the fee for 286 minor agricultural use registrations at the request of the registrants. Maintenance fees have been paid for about 16,032 FIFRA section 3 registrations, or about 97% of the registrations on file in October 2014. Fees have been paid for about 1,912 FIFRA section 24(c) registrations, or about 86% of the total on file in October 2014. Cancellations for non-payment of the maintenance fee affect about 216 FIFRA section 3 registrations and about 20 FIFRA section 24(c) registrations.

The cancellation orders generally permit registrants to continue to sell and distribute existing stocks of the canceled products until January 15, 2016, 1 year after the date on which the fee was due. Existing stocks already in the hands of dealers or users, however, can generally be distributed, sold, or used legally until they are exhausted. Existing stocks are defined as those stocks of a registered pesticide product which are currently in the United States and which have been packaged, labeled, and released for shipment prior to the effective date of the cancellation order.

The exceptions to these general rules are cases where more stringent restrictions on sale, distribution, or use of the products have already been imposed, through special reviews or other Agency actions. These general provisions for disposition of stocks should serve in most cases to cushion the impact of these cancellations while the market adjusts.

III. Listing of Registrations Canceled for Non-Payment

Table 1 of this unit lists all of the FIFRA section 24(c) registrations, and Table 2 of this unit lists all of the FIFRA section 3 registrations which were canceled for non-payment of the 2015 maintenance fee. These registrations have been canceled by order and without hearing. Cancellation orders were sent to affected registrants via certified mail in the past several days. The Agency is unlikely to rescind cancellation of any particular registration unless the cancellation resulted from Agency error.

Table 1—FIFRA Section 24(c) Registrations Cancelled for Non-Payment of 2015 Maintenance Fee
SLN No. | Product name
AR-08-0012 | Strada WG.
CA-76-0166 | Ortho Malathion 25 Wettable.
CA-83-0007 | Sevin Brand 80s Carbaryl Insecticide.
CA-98-0015 | Affirm Fire Ant Insecticide.
ID-01-0015 | Ro-Neet 6-E Selective Herbicide.
LA-08-0007 | IR5878 WG.
MI-08-0004 | Ro-Neet 6-E.
MO-08-0002 | Strada WG.
NC-07-0004 | 8.5% Ethylene Oxide & Carbon Dioxide Sterilizing Gas.
NE-03-0004 | Echo 720 Agricultural Fungicide.
NE-03-0005 | Echo Zn Agricultural Fungicide.
NV-13-0002 | Avitrol Double Strength Whole Corn.
OR-01-0022 | Ro-Neet 6-E Selective Herbicide.
OR-01-0023 | Ro-Neet 6-E Selective Herbicide.
TX-08-0007 | Strada WG.
TX-08-0019 | Paraquat SL Herbicide.
WA-01-0021 | Ro-Neet 6-E Selective Herbicide.
WA-01-0023 | Ro-Neet 6-E Selective Herbicide.
WA-02-0003 | Ro-Neet 6-E Selective Herbicide.
WY-08-0006 | Paraquat SL Herbicide.

Table 2—FIFRA Section 3 Registrations Cancelled for Non-Payment of 2015 Maintenance Fee
Registration No. | Product name
000003-00013 | Harris Deltamax Concentrate Insecticide.
000178-00017 | Stera-Sheen Sanitizer.
000178-00018 | Stera-Sheen Advantage.
000322-00001 | Fort Dodge Gopher Bait.
000358-00165 | Nott Mole-Nots.
000577-00571 | Seaguard 1083 Ablative Antifouling Paint.
000814-00004 | Force's Ro-Dex.
000875-00099 | Diversey Wyandotte Liquid Bacteriostatic Softener F-501.
000875-00147 | Fybrfluf G+.
000875-00189 | HLC-18 Quaternary Germicidal Cleaner.
001020-00001 | Oakite Sanitizer No. 1.
001022-00540 | IPBC RTU.
001022-00551 | Chapman DCD Copper Complex.
001022-00562 | Chap-Fume.
001022-00564 | Sta Brite C.
001022-00580 | Tuffgard 404.
001022-00581 | Tuffgard 5 RTU.
001130-00019 | Weiman Disinfecting Wipes.
001672-00014 | Austin's Pine Oil Cleaner.
003276-20002 | Al-Clor 10.
003573-00046 | Mild Abrasive Formula Comet Liquid Disinfectant Cleanser.
003573-00051 | Comet Cleanser with Chlorinol.
003573-00062 | Cleaning Magic II.
003573-00089 | Snipe.
004313-00009 | Pure Pine Oil Disinfectant.
005741-00006 | PD-64 Phenolic Base Cleaner & Disinfectant.
006186-00051 | Ster-O-Kem No. 15.
007152-00005 | Algi-Sea.
007152-00021 | Seaboard Granular Stabilized Chlorine.
007152-00032 | Algi-Cide.
007152-00065 | Super Algi-Sea.
007152-00087 | Day Tabs.
007152-00089 | Slo-Tab Technical Trichloro-S-Triazinetrone.
008177-00072 | Natural Wood Preservative.
008177-00073 | Enterprise Clear Wood Preservative.
008281-00005 | Hormex Rooting Powder No. 45.
008383-00011 | Sporicidin Pro AD.
008622-00012 | 98-2.
008622-00013 | 67-33 Preplant Soil Fumigant.
008622-00015 | 75-25 Preplant Soil Fumigant.
008622-00039 | 50-50 Preplant Soil Fumigant.
008730-00065 | Hercon Disrupt Micro-Flake CM.
008730-00074 | Hercon Disrupt Bio-Flake CM.
008730-00079 | Hercon Disrupt Bio-Dispenser BB.
008730-00080 | Hercon Disrupt Bio-Dispenser DFB.
008848-00086 | Black Jack Roach & Ant Killer VI.
008996-00009 | Sulfur Dioxide.
009009-00016 | So White Brand Ultra Bleach and Disinfectant.
009198-00231 | The Andersons GC Fertilizer Bait Granules Plus 0.058% Bifenthrin.
009468-00033 | Kull 41 S.
009468-00034 | Kull 62 MUP.
009468-00035 | Kull Tgai Glyphosate.
009768-00007 | T-Chlor.
010707-00051 | X-Cide 508 Industrial Microbicide.
011631-00004 | Antimicrobial Alphasan RC 7000.
011631-00005 | Antimicrobial Alphasan CW 12.
011694-00034 | Do-It All.
011930-00005 | Omego Mist Wet.
011930-00011 | Pyrifos Poultry House Mist.
013283-00009 | Rainbow Weed Killer.
013283-00017 | Rainbow Ko Fire Ant Killer.
015297-00007 | Bio-Groom Flea & Tick-14 Long Lasting Residual Spray with Lanolin.
015297-00017 | Bio-Groom Flea & Tick Pyrethrin Spray.
017545-00012 | R.D. 20.
019369-00002 | Algaecide 30 Concentrate-L.
033906-00016 | Pyridaben Technical Product.
033906-00022 | Pyridaben K.
033981-00012 | Sodium Hypochlorite MP 12.5%.
035138-00090 | Aero General Use Insecticide.
035253-00005 | BCS-Copper Fungicide.
035512-00037 | Turf Pride Fertilizer + 0.67% Preemergent Weed Control.
035512-00056 | Turf Pride Lawn Food with Trimec Herbicide.
035512-00061 | Turf Pride Fertilizer + 1.0% Preemergent Weed Control.
036638-00036 | Nomate CM Fiber.
041209-00004 | Chlorine Liquified Gas.
041209-20002 | Sodium Hypochlorite Solution 10% EUP.
041428-20001 | Scott Chlor.
041504-20002 | Borchlor 10.
042519-00034 | Prosoy PPT.
043813-00013 | Wocosen Technical.
043813-00027 | Econea Technical.
043813-00041 | Wocosen 150 EC.
043813-00042 | Wocosen 15 TK.
043813-00043 | Wocosen 450.
043813-00044 | Wocosen 45 TK.
044446-00073 | Beat-It Insect Repellent Pump Spray.
046597-00002 | Q-San.
051934-00014 | Cidetrak CMDA 115/30.
051934-00015 | Cidetrak CMDA 185/60.
052374-00016 | Chlorine.
054614-00007 | Spa-Chlor.
054614-00008 | Lithchlor.
054614-00009 | Mini Pucks.
056212-00001 | DMX-7 Mold Inhibitor.
058007-00011 | Ultrathon Insect Repellent Pump 8.
058616-00005 | PCT 3023.
063823-00064 | Game Stop.
063838-00011 | Enviro-Brom 20l.
065615-00007 | Scoot Deer & Rabbit Repellent.
066171-00010 | Iodis.
069061-00001 | Davis Pyrethrins.
069061-00002 | Sivad Davis Dip and Spray.
069361-00035 | Triclo 4 Specialty Herbicide.
069361-00036 | Imida 2C Insecticide.
069361-00043 | Permethrin Technical.
069361-00045 | Permethrin AG.
069361-00046 | Repar Permethrin H&G.
069361-00047 | Deltamethrin Technical.
069836-00001 | Ecosharp Weed & Grass Killer.
069836-00002 | Ecosharp Weed & Grass Killer Ready To Use.
070627-00011 | Johnson End-Bac Liquid Disinfectant.
070627-00012 | Johnson End Bac Pressurized Disinfectant Spray.
070627-00013 | Johnson Envy Instant Cleaner for Washrooms.
070627-00014 | Johnson Crew Bathroom Power Cleanser.
070627-00016 | Johnson J-80 Sanitizer.
070627-00019 | Johnson J-81 Hospital Cleaner-Germicidal.
070627-00020 | Johnson Wax Liquid Envy Instant Cleaner Germicidal.
070627-00022 | Virex II Ready To Use (RTU).
070627-00025 | Liquid Vanish Disinfectant Toilet Bowl Cleaner.
070627-00029 | Surfacide/6.
070627-00031 | Absolute.
070627-00032 | Johnson Envy II Instant Cleaner.
070627-00036 | Easy Paks 4-Shot Disinfectant Cleaner.
070627-00048 | Crew 10.
070627-00049 | Crew 11.
070627-00050 | Crew 12.
070950-00003 | Avachem Sorbitol Octanoate (90%).
071532-00004 | LG Permethrin 3.2 HG.
072112-00011 | Provair PGR.
072138-00004 | Xtra-Pine Cleans Disinfects* Deodorizes.
072500-00021 | Mouse Hook.
072679-00005 | Copper Paint No.1 Red.
072693-00004 | Acephate 90 WDG.
072693-00011 | Chlorpyrifos 4E.
072992-00016 | Flora Patch.
074320-00001 | RB-90 Jumbo Tab.
074320-00003 | RB-56 Chlor.
074779-00013 | Xytect 2F.
075108-00001 | Red Scale Down.
075499-00003 | Plant Synergists, Inc. GA3 4% Liquid Plant Growth Regulator Solution.
080203-00002 | Go-Away Fabric Treatment/<Article>.
080286-00015 | Splat CLM.
081117-00001 | Ro-Pel Tree Squirrel, Vole, Dog, and Cat Repellent.
081390-00001 | Provisiongard 23207 Rub Resistant Carton Top Coat.
082771-00001 | King Pine Brand Disinfectant.
082932-00001 | All-Clear.
083070-00002 | Tee-1 Up WDG Fungicide.
083411-00002 | Clean Field 88.8 WDG.
083451-00010 | Aquate.
083518-00002 | SDIC-G Dihydrate Granules.
083525-00003 | Wegochlor 60.
083529-00020 | Sharda Glyphosate 41 SL.
084009-00006 | Malathion-5 Emulsifiable Concentrate.
084009-00007 | Diamond Copper Sulphate (Bluestone).
084009-00008 | Trifluralin 4EC Herbicide.
084009-00010 | Atrazine 4L Herbicide.
084009-00011 | Atrazine 90 Herbicide.
084009-00014 | Mepiquat Chloride 4.2.
084009-00015 | Bifenthrin 2EC.
084009-00016 | Ethephon 6.0.
084009-00017 | UCPA Simazine 4L.
084009-00018 | UCPA Simazine 90DF.
084009-00019 | Lambda CY 1EC.
084009-00020 | Abamectin 0.15 EC.
084009-00021 | Acetochlor ATZ.
084009-00022 | Paraquat 3.0.
084009-00023 | Tebucon 3.6F.
084009-00024 | Fomesafen 2.0.
084009-00025 | Propiconazole 41.8.
084214-00001 | AG3+ Fiber 17%.
084214-00003 | AG3+ Fiber 13%.
084542-00004 | Anti-Dustmite Fibers and Fabrics.
084622-00001 | Microlite.
084993-00001 | Capsicum Oleoresin 300,000 SHU.
085678-00030 | Iprodione 41.6SC.
085724-00004 | Rimon 100EC Insecticide.
085738-00001 | pH 12.6.
086004-00002 | Glyphosate 2% Ready-To-Use.
086153-00003 | Enclosure 4 Flowable Fungicide and Nematicide.
086313-00001 | Grotek Elimaweed Weed and Grass Killer.
086374-00001 | Ecopel All-Family Protection Insect Repellent Spray.
086461-00003 | 2,4-D Amine Manufacturing Concentrate.
086461-00004 | 2,4-D Ester Manufacturing Concentrate.
086461-00005 | Bifenthrin 2EC.
086461-00007 | 2,4-D Acid Technical.
086461-00013 | Bifenthrin Technical.
086834-00001 | Gly-Force 1.
087203-00001 | AMS Biguanide 20.
087273-00001 | Pro Chlor Granules.
087290-00009 | Pronamide 50W WSB Herbicide.
087290-00027 | Willowood Bromacil 80DF.
087290-00028 | Willowood Diuron 80DF.
087290-00029 | Willowood Diuron 4SC.
087290-00031 | Willowood Diuron/Bromacil 80DF.
087373-00003 | Thiophanate Methyl 70W.
087373-00008 | Iprodione/Thiophanate Methyl Combo.
087373-00009 | Thiophanate Methyl 85EG.
087886-00001 | Primeclo2.
088452-00001 | Juicy Roots.
088498-00001 | Willowood Bromacil Technical.
088529-00001 | Willowood Diuron Technical.
088602-00001 | Prodigy Fipronil Technical.
088633-00001 | Copper Sulfate Pentahydrate Technical.
088633-00002 | Delcup L.
088710-00001 | Abluere Disinfectant Spray.
088779-00001 | CU Fusion Csp.
088801-00001 | Ceresus IM.
088911-00001 | Liquid Copper Sulfate.
088966-00002 | Vetguard for Dogs.
089530-00001 | Sani-Du.
089550-00001 | Tip-Top Cl02.
089711-00001 | Zap'em All Purpose Insect Spray.
089816-00004 | Mebrom 67-33.
089816-00005 | Mebrom 75-25.
089816-00006 | Mebrom 50-50.
089816-00007 | Mebrom 80-20.

IV. Provisions for Disposition of Existing Stocks

The effective date of cancellation will be the date of the cancellation order. The orders effecting these requested cancellations will generally permit a registrant to sell or distribute existing stocks until January 15, 2016, 1 year after the date on which the fee was due.

Existing stocks are those stocks of registered pesticide products which are currently in the United States and which have been packaged, labeled, and released for shipment prior to the effective date of the cancellation order. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a special review action, or where the Agency has identified significant potential risk concerns associated with a particular chemical.

Authority: 7 U.S.C. 136 et seq.

Dated: October 27, 2015.
Jack E. Housenger,
Director, Office of Pesticide Programs.

[FR Doc. 2015-28855 Filed 11-12-15; 8:45 am]

BILLING CODE 6560-50-P